DEPARTMENT OF STATE

22 CFR Part 121

[Public Notice: 12744]

RIN 1400-AF42

International Traffic in Arms Regulations: U.S. Munitions List Targeted Revisions; Correction

AGENCY: Department of State.

ACTION: Final rule; interim final rule adopted with changes; correction.

SUMMARY: The Department of State is correcting a rulemaking that appeared in the Federal Register on August 27, 2025. An asterisk was inadvertently omitted from the amendatory text.

DATES: Effective September 15, 2025.

FOR FURTHER INFORMATION CONTACT: Chris Weil, Office of Defense Trade Controls Policy, Department of State, email DDTCCustomerService@state.gov, (202) 663-1282.

SUPPLEMENTARY INFORMATION: In Fr. Doc. 2025-16382, appearing on page 41778 in Volume 90 of the Federal Register of Wednesday, August 27, 2025, the following correction is made:

§ 121.1 [Corrected]

On page 41786, in the first column, in § 121.1, under the heading Category XI-Military Electronics, “(4) * * *” is corrected to read “* (4) * * *”.

Alice M. Kottmyer,
Attorney Adviser, Office of the Legal Adviser, Department of State.

[FR Doc. 2025-17431 Filed 9-9-25; 8:45 am]

BILLING CODE 4710-25-P